DEPARTMENT OF THE INTERIOR

Bureau of Land Management

[20X LLUTY02000 L17110000.PN0000 LXSSJ0650000]

Notice of Public Meeting, Bears Ears National Monument Advisory Committee, Utah

AGENCY: Bureau of Land Management, Interior.

ACTION: Notice of public meeting.

SUMMARY: In accordance with the Federal Land Policy and Management Act, as amended, the Federal Advisory Committee Act, and the Federal Lands Recreation Enhancement Act, the U.S. Department of the Interior Bureau of Land Management's (BLM) Bears Ears National Monument Advisory Committee (BENM MAC) will meet as indicated below.

DATES: The BENM MAC is scheduled to meet on February 25-26, 2020. The meeting will take place from 8:30 a.m. to 5 p.m. on February 25 and 8:30 a.m. to 4 p.m. on February 26.

ADDRESSES: The meeting will be held at the Hideout Community Center located at 648 South Hideout Way, Monticello, Utah 84535.

FOR FURTHER INFORMATION CONTACT: Jake Palma, Bears Ears National Monument Manager, P.O. Box 7, Monticello, Utah 84535 or via email with the subject line “BENM-MAC” to blm_ut_mt_mail@blm.gov, or by calling the Monticello Field Office at (435) 587-1500. Persons who use a telecommunications device for the deaf (TDD) may call the Federal Relay Service (FRS) at 1-800-877-8339 to leave a message or question for the above individual. The FRS is available 24 hours a day, seven days a week. Replies are provided during normal business hours.

SUPPLEMENTARY INFORMATION: The MAC was established to provide advice and information to the Secretary of the Interior through the Director of the BLM, and to the Secretary of Agriculture, through the Chief of the U.S. Forest Service, to consider in planning for and managing the Bears Ears National Monument. The 15-member committee represents a wide range of interests including local and state government, paleontological and archaeological expertise, conservation community, livestock grazing permittees, Tribal, developed and dispersed recreation, private landowners, local business owners, and the public at large. More information can be found on the BENM MAC website at https://www.blm.gov/get-involved/rac-near-you/utah/benm-mac.

The meeting is open to the public; however, transportation, lodging, and meals are the responsibility of the participating individuals. A public comment period will be offered each day of the scheduled meeting. Depending on the number of people wishing to comment and the time available, the time for individual comments may be limited. People wishing to speak will be asked to sign in before the scheduled oral comment time for planning and record keeping purposes. Written comments may also be sent to the Monticello Field Office at the address listed in the FOR FURTHER INFORMATION CONTACT section of this notice. All comments received prior to the meeting will be provided to the BENM MAC.

Before including your address, phone number, email address, or other personal identifying information in your comments, please be aware that your entire comment, including your personal identifying information, may be made publicly available at any time. While you can ask us in your comment to withhold your personal identifying information from public review, we cannot guarantee that we will be able to do so.

Detailed meeting minutes for the BENM MAC meeting will be maintained in the Canyon Country District Office and will be available for public inspection and reproduction during regular business hours within ninety (90) days following the meeting. Minutes will also be posted to the BENM MAC website.

Authority: 43 CFR 1784.4-2.

Anita Bilbao,
Acting State Director.

[FR Doc. 2020-00432 Filed 1-13-20; 8:45 am]

BILLING CODE 4310-DQ-P